DEPARTMENT OF ENERGY

Federal Energy Regulatory Commission

[Docket No. RP03-213-001]

Gulf South Pipeline Company, LP; Notice of Compliance Filing

May 23, 2003.

Take notice that on May 20, 2003, Gulf South Pipeline Company, LP (Gulf South) tendered for filing as part of its FERC Gas Tariff, Sixth Revised Volume No. 1, the following tariff sheets, to become effective May 1, 2003:

Substitute Second Revised Sheet No. 1

Substitute Original Sheet No. 1418

Substitute Third Revised Sheet No. 2

Substitute Original Sheet No. 1419

Substitute First Revised Sheet No. 25

Substitute Original Sheet No. 1420

Substitute First Revised Sheet No. 303

Substitute Original Sheet No. 1421

Substitute Second Revised Sheet No. 400

Sheet Nos. 1422-1499

Substitute First Revised Sheet No. 401

Substitute Second Revised Sheet No. 1905

Substitute First Revised Sheet No. 402

Substitute Second Revised Sheet No. 2002

Substitute First Revised Sheet No. 403

Substitute Third Revised Sheet No. 2701

Substitute Second Revised Sheet No. 404

Substitute Fourth Revised Sheet No. 2702

Substitute Second Revised Sheet No. 405

Substitute Fourth Revised Sheet No. 3613

Sheet Nos. 406—499

Substitute Second Revised Sheet No. 3705

Substitute Third Revised Sheet No. 502

Substitute Third Revised Sheet No. 3706

Substitute First Revised Sheet No. 504

Substitute Second Revised Sheet No. 4010

Sheet No. 1417

Substitute Third Revised Sheet No. 4400

Gulf South states that this filing revises Gulf South's tariff to recognize that firm storage services will be offered under separate rate schedules for services provided at Gulf South's existing Bistineau storage facility and its newly certificated Magnolia storage facility, expected to be in service October 1, 2003. Gulf South indicates that the revised tariff provisions also establish the auction procedures for marketing available firm storage capacity from Bistineau that is not subject to a contractual right of first refusal, as well as those for Magnolia before and after August 1, 2003. This filing is submitted in compliance with the Commission's Order dated May 5, 2003, in Docket No. RP03-213-000.

Gulf South states that copies of the filing has been served upon each person designated on the office service list.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: June 2, 2003.

Magalie R. Salas,
Secretary.

[FR Doc. 03-13622 Filed 5-30-03; 8:45 am]

BILLING CODE 6717-01-P